DEPARTMENT OF THE INTERIOR

Geological Survey

[GX20DJ73GY140.00; OMB Control Number 1028-NEW]

Agency Information Collection Activities; Local & Indigenous Knowledge of Permafrost Dynamics Across the Yukon River Basin

AGENCY: U.S. Geological Survey, Interior.

ACTION: Notice of information collection; request for comment.

SUMMARY: In accordance with the Paperwork Reduction Act of 1995, we, the U.S. Geological Survey (USGS) are proposing a new information collection.

DATES: Interested persons are invited to submit comments on or before May 3, 2021.

ADDRESSES: Send your comments on this information collection request (ICR) by mail to U.S. Geological Survey, Information Collections Officer, 12201 Sunrise Valley Drive MS 159, Reston, VA 20192; or by email to gs-info_collections@usgs.gov. Please reference OMB Control Number 1028-xxxx in the subject line of your comments.

FOR FURTHER INFORMATION CONTACT: To request additional information about this ICR, contact Nicole Herman-Mercer by email at nhmercer@usgs.gov or by telephone at 303-236-5031.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: We will collect narrative information regarding knowledge and observations of permafrost dynamics in communities in the Yukon River Basin in Alaska. Narrative information will be collected via semi-structured interviews with active land users in specific communities as well as relevant city, tribal council, and village corporation staff. Questions will focus on observations of landscape change and infrastructure damage indicative of permafrost thaw. This information will allow for a greater understanding of permafrost dynamics in the region as well as the impacts thaw has on communities. This information will be used to inform future permafrost monitoring efforts in the region and provided to communities for adaptation planning.

Title of Collection: Local & Indigenous Knowledge of Permafrost Dynamics across the Yukon River Basin.

OMB Control Number: 1028-NEW.

Form Number: None.

Type of Review: New.

Respondents/Affected Public: Individuals.

Total Estimated Number of Annual Respondents: 150.

Total Estimated Number of Annual Responses: 150.

Estimated Completion Time per Response: 60 minutes.

Total Estimated Number of Annual Burden Hours: 150.

Respondent's Obligation: Voluntary.

Frequency of Collection: One time.

Total Estimated Annual Nonhour Burden Cost: None.

An agency may not conduct or sponsor and a person is not required to respond to a collection of information unless it displays a currently valid OMB control number.

The authority for this action is the Paperwork Reduction Act of 1995 (44 U.S.C. 3501 et seq).

Jennifer Rapp,
Chief, Decision Support Branch.

[FR Doc. 2021-04226 Filed 3-1-21; 8:45 am]

BILLING CODE 4338-11-P